ENVIRONMENTAL PROTECTION AGENCY

[FRL-8696-9]

Award of United States-Mexico Border Program Grants Authorized by the Consolidated Appropriations Act, 2008, and Grant Guidance

AGENCY: Environmental Protection Agency (EPA).

ACTION: Notice of Availability.

SUMMARY: This notice announces the availability of a memorandum and accompanying guidance on how the Environmental Protection Agency (EPA) will award and administer the United States-Mexico Border Program grant funds appropriated in the State and Tribal Assistance Grants (STAG) account of the Agency's fiscal year (FY) 2008 appropriations. In the memorandum, the Agency identifies the portion of the available funds that are subject to the accompanying guidance. The grant guidance, which specifies how EPA Region 6 and Region 9 will award and administer these funds, will not be reissued annually. Each grant recipient will receive a copy of the memorandum and grant guidance from EPA. Requests for any materials referenced in the guidance document should be directed to the Regional project officers.

FOR FURTHER INFORMATION CONTACT: Kellie Kubena, Acting Chief, Municipal Assistance Branch, Municipal Support Division, Office of Wastewater Management (4204M), Environmental Protection Agency, 1200 Pennsylvania Ave., NW., Washington, DC 20460; telephone number: (202) 566-0448; e-mail address: Kubena.Kellie@epamail.epa.gov.

SUPPLEMENTARY INFORMATION:

Electronic Access

The subject notice and associated documents may be viewed and downloaded from EPA's homepage, http://www.epa.gov/owm/mab/owm0331.pdf and http://www.epa.gov/owm/mab/owm0332.pdf.

Dated: July 8, 2008.
Judy Davis,
Acting Director, Office of Wastewater Management.

[FR Doc. E8-17087 Filed 7-24-08; 8:45 am]

BILLING CODE 6560-50-P